DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on April 7-8, 2008. The meeting will be held in Room 462 at the Crosstown Center, Boston University School of Public Health, 801 Massachusetts Avenue, Boston, MA. On April 7, the session will convene at 8 a.m. and adjourn at 5:30 p.m. On April 8, the session will convene at 8 a.m. and adjourn at 1 p.m. The sessions will be open to the public.

The purpose of the Committee is to provide advice and make recommendations to the Secretary of Veterans Affairs on proposed research studies, research plans and research strategies relating to the health consequences of military service in the Southwest Asia theater of operations during the Gulf War.

The Committee will review VA program activities related to Gulf War veterans' illnesses and updates on relevant scientific research published since the last Committee meeting. The April 7 session will be devoted to presentations of ongoing research related to the prevalence of chronic multisymptom illness among Gulf War veterans, potential mechanisms underlying these illnesses, and the identification of objective markers to distinguish ill from well veterans and possible treatments. The April 8 session will be devoted to updates of recent VA and other relevant research, a discussion of the VA-funded Gulf War illnesses research program at the University of Texas Southwestern Medical Center, and a discussion of the Research Advisory Committee's upcoming 2008 report. Additionally, there will be discussion of Committee business and activities.

The meeting will include time reserved for public comments. A sign-up sheet for five-minute comments will be available at the meeting. Individuals who speak are invited to submit a 1-2 page summary of their comments at the time of the meeting for inclusion in the official meeting record. Members of the public may also submit written statements for the Committee's review to Dr. Roberta White at rwhite@bu.edu.

Any member of the public seeking additional information should contact Dr. William Goldberg, Designated Federal Officer, at (202) 254-0294, or Dr. Roberta White, Scientific Director, at (617) 278-4517.

Dated: March 12, 2008.
By Direction of the Secretary.
E. Philip Riggin,
Committee Management Officer.

[FR Doc. E8-5454 Filed 3-18-08; 8:45 am]

BILLING CODE 8320-01-M